ENVIRONMENTAL PROTECTION AGENCY

[FRL-9285-2]

Office of Research and Development; Ambient Air Monitoring Reference and Equivalent Methods: Designation of Four New Equivalent Methods

AGENCY: Environmental Protection Agency.

ACTION: Notice of the designation of four new equivalent methods for monitoring ambient air quality.

SUMMARY: Notice is hereby given that the Environmental Protection Agency (EPA) has designated, in accordance with 40 CFR Part 53, four new equivalent methods: One each for measuring concentrations of PM2.5 and lead (Pb) and two for measuring concentrations of PM10 in the ambient air.

FOR FURTHER INFORMATION CONTACT: Robert Vanderpool, Human Exposure and Atmospheric Sciences Division (MD-D205-03), National Exposure Research Laboratory, U.S. EPA, Research Triangle Park, North Carolina 27711. E-mail: Vanderpool.Robert@epa.gov.

SUPPLEMENTARY INFORMATION: In accordance with regulations at 40 CFR Part 53, the EPA evaluates various methods for monitoring the concentrations of those ambient air pollutants for which EPA has established National Ambient Air Quality Standards (NAAQSs) as set forth in 40 CFR Part 50. Monitoring methods that are determined to meet specific requirements for adequacy are designated by the EPA as either reference methods or equivalent methods (as applicable), thereby permitting their use under 40 CFR Part 58 by States and other agencies for determining compliance with the NAAQSs.

The EPA hereby announces the designation of four new equivalent methods for measuring pollutant concentrations in the ambient air: One for PM2.5, one for Pb, and two for PM10. These designations are made under the provisions of 40 CFR Part 53, as amended on June 22, 2010 (75 FR 35597).

The new PM2.5 equivalent method is an automated monitoring method (analyzer) utilizing a measurement principle based on active sampling of ambient aerosols and contemporaneous analysis by means of a light-scattering technique for determination of particle size and mass concentration. The newly designated equivalent method is identified as follows:

EQPM-0311-195, “Grimm Technologies, Inc. Model EDM 180 PM2.5 Monitor,” light scattering continuous ambient particulate monitor operated for 24 hours at a volumetric flow rate of 1.2 L/min, configured with a Nafion®-type air sample dryer, complete for operation with firmware version 7.80 or later, in accordance with the Grimm Technologies, Inc. Model EDM 180 Operation and Instruction Manual. The optional graphic presentation can be made with the software model 1.177 version 3.30 or later.

The application for an equivalent method determination for this candidate method was received by the EPA on April 6, 2010. The monitor is commercially available from the applicant, GRIMM Technologies, Inc., 5833 Stewart Parkway, Suite 203, Douglasville, GA 30153.

It should be noted that this Grimm Model EDM 180 PM2.5 Monitor is not only a semi-continuous PM2.5 analyzer but it is also the first equivalent method designated by EPA that is based on an optical measurement technique and, further, one that does not involve inertial separation of particles in the PM2.5 size range or collection of the PM2.5 on a particle filter. Because this new measurement approach is being approved for NAAQS compliance measurements for the first time, users are encouraged to consider the special nature of this method when introducing it into a SLAMS PM2.5 monitoring network. The EPA Regional Offices can offer guidance in this regard.

The new equivalent method for Pb is a manual method that uses the sampling procedure specified in the EPA Reference Method for total suspended particulate matter (TSP) (High-Volume Method, 40 CFR Part 50, Appendix B), with a particular extraction and analytical procedure. The method is identified as follows:

EQL-0311-196, “Heated Ultrasonic Nitric and Hydrochloric Acid Digestion and ICP/AES Analysis for Lead (Pb) on TSP High-Volume Filters.” A sample of total suspended particulate matter (TSP) is collected on a glass fiber filter, using the sampler and procedure of the EPA Reference Method for the Determination of Suspended Particulate Matter in the Atmosphere (High-Volume Method) (40 CFR 50, Appendix B). The TSP sample is extracted with a solution of nitric and hydrochloric acid, heated in an ultrasonic bath to 80 °C for one hour, and brought to a final volume of 40 mL. The lead content of the sample extract is analyzed by Inductively Coupled Plasma-Atomic Emission Spectrometry (ICP-AES), based on EPA SW-846 Method 6010C.

The application for an equivalent method determination for this method was submitted by the Office of Air Quality Planning and Standards, U.S. Environmental Protection Agency, Research Triangle Park, NC 27711 and was received by the Office of Research and Development on June 24, 2010. The method description is available at http://www.epa.gov/ttnamti1/pb-monitoring.html.

The two new equivalent methods for PM10 are both manual, gravimetric sampling methods employing a particulate sampler configured for dual filter sampling and using a virtual impactor to separate the fine and coarse PM fractions for collection on separate filters. The two newly designated PM10 methods are identified as follows:

EQPS-311-197, “Thermo Scientific Partisol® 2000-D Dichotomous Air Sampler,” configured for dual-filter, single-event sampling of fine (PM2.5) and coarse (PM10-2.5) particles, using a virtual impactor to separate fine and coarse PM into two samples for collection on two separate filter membranes, operated for a 24-hour sample period and in accordance with the Thermo Scientific Partisol® 2000-D Dichotomous Operating Manual.

EQPS-0311-198, “Thermo Scientific Dichotomous Partisol®-Plus Model 2025-D Sequential Air Sampler,” configured for dual-filter sampling of fine (PM2.5) and coarse (PM10-2.5) particles, using a virtual impactor to separate the fine and coarse PM into two samples for collection on two separate filter membranes, and operated with the modified filter shuttle mechanism implemented May 31, 2008 and firmware version 1.500, or later, for 24-hour continuous sample periods and in accordance with the Dichotomous Partisol®-Plus Model 2025-D Sequential Air Sampler Operating Manual.

Applications for equivalent method determinations for these candidate methods were received by the EPA on September 7, 2010. The samplers are commercially available from the applicant, Thermo Fisher Scientific, Air Quality Instruments, Environmental Instruments Division, 27 Forge Parkway, Franklin, MA 02038.

The analytical procedure for the Pb method and the test analyzers or samplers representative of the other methods have been tested in accordance with the applicable test procedures specified in 40 CFR Part 53 (as amended on June 22, 2010). After reviewing the results of those tests and other information submitted by the applicants in the respective applications, EPA has determined, in accordance with Part 53, that these methods should be designated as equivalent methods. The information submitted by the applicants in the respective applications will be kept on file, either at EPA's National Exposure Research Laboratory, Research Triangle Park, North Carolina 27711 or in an approved archive storage facility, and will be available for inspection (with advance notice) to the extent consistent with 40 CFR Part 2 (EPA's regulations implementing the Freedom of Information Act).

As designated equivalent methods, these methods are acceptable for use by States and other air monitoring agencies under the requirements of 40 CFR Part 58, Ambient Air Quality Surveillance. For such purposes, each method must be used in strict accordance with the operation or instruction manual or standard operating procedure associated with the method and subject to any specifications and limitations (e.g., configuration or operational settings) specified in the applicable designated method description (see the identifications of the methods above).

Use of the methods should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008 (available at http://www.epa.gov/ttn/amtic/qalist.html). Vendor modifications of a designated equivalent method used for purposes of Part 58 are permitted only with prior approval of the EPA, as provided in Part 53. Provisions concerning modification of such methods by users are specified under Section 2.8 (Modifications of Methods by Users) of Appendix C to 40 CFR part 58.

In general, a method designation applies to any sampler, analyzer, or method which is identical to the sampler, analyzer, or method described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

Part 53 requires that sellers of designated reference or equivalent method analyzers or samplers comply with certain conditions. These conditions are specified in 40 CFR 53.9.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of these new equivalent methods is intended to assist the States in establishing and operating their air quality surveillance systems under 40 CFR Part 58. Questions concerning the commercial availability or technical aspects of the methods should be directed to the applicants.

Jewel F. Morris,
Acting Director, National Exposure Research Laboratory.

[FR Doc. 2011-6681 Filed 3-21-11; 8:45 am]

BILLING CODE 6560-50-P